DEPARTMENT OF LABOR

Office of the Secretary

All Items Consumer Price Index for All Urban Consumers; United States City Average

Pursuant to Section 112 of the 1976 amendments to the Federal Election Campaign Act, 52 U.S.C. 30116(c), the Secretary of Labor has certified to the Chairman of the Federal Election Commission and publishes this notice in the Federal Register that the United States City Average All Items Consumer Price Index for All Urban Consumers (CPI-U) (1967 = 100) increased 418.5 percent from its 1974 annual average of 147.7 to its 2019 annual average of 765.836 and that it increased 44.4 percent from its 2001 annual average of 530.4 to its 2019 annual average of 765.836. Using 1974 as a base (1974 = 100), I certify that the CPI-U thus increased 418.5 percent from its 1974 annual average of 100 to its 2019 annual average of 518.508. Using 2001 as a base (2001 = 100), I certify that the CPI-U increased 44.4 percent from its 2001 annual average of 100 to its 2019 annual average of 144.388. Using 2006 as a base (2006 = 100), I certify that the CPI-U increased 26.8 percent from its 2006 annual average of 100 to its 2019 annual average of 126.815.

Signed at Washington, DC.
Eugene Scalia,
Secretary of Labor.

[FR Doc. 2020-16380 Filed 7-28-20; 8:45 am]

BILLING CODE 4510-24-P